DEPARTMENT OF AGRICULTURE

Forest Service

California Coast Provincial Advisory Committee (PAC)

AGENCY: Forest Service, USDA.

ACTION: Notice of meeting.

SUMMARY: The California Coast Provincial Advisory Committee (PAC) will meet on January 31 and February 1, 2001, at the Discovery Inn, Landmark Room in Ukiah, California. The meeting will be held from 1 p.m. until 5 p.m. on Wednesday, January 31, and from 8:30 a.m. to 4 p.m. on Thursday, February 1. The Discovery Inn is located at 1340 No. State Street in Ukiah. Agenda items to be covered include: (1) Panel on Federal and State actions to implement the National Fire Plan; (2) Discussion on the issue of anadromous fish populations and their habitat on federal lands in the Province; (3) Update on the State watershed planning activities; (4) Regional Ecosystem Office (REO) update; (5) Discussion on the Forest Service Road Management Policy and Roadless Area Conservation Rule; (6) Presentation on legislation concerning federal Payments to Counties; (7) Presentation on Round Valley Resource Center small diameter timber utilization grant: (8) Action plan for the Province comprehensive road work/fisheries and watershed restoration plan; (9) Draft issue concerning a Provincial integrated fire strategy; and (10) Open public comment. All California Coast Provincial Advisory Committee meetings are open to the public. Interested citizens are encouraged to attend.

FOR FURTHER INFORMATION CONTACT: Direct questions regarding this meeting to James Fenwood, Forest Supervisor, or Phebe Brown, Province Coordinator, USDA, Mendocino National Forest, 825 H. Humboldt Avenue, Willows, CA, 95988, (530) 934-3316.

Dated: January 10, 2001.
Phebe Y. Brown,
Province Coordinator.

[FR Doc. 01-1885 Filed 1-22-01; 8:45 am]

BILLING CODE 3410-11-M